DEPARTMENT OF AGRICULTURE

Forest Service

Southwestern Region, Arizona, New Mexico, West Texas and Oklahoma: Proposed Surface Management of Natural Gas Resource Development on Jicarilla Ranger District, Carson National Forest, Rio Arriba County, NM; Additional Filings

AGENCY: Forest Service, USDA.

ACTION: Notice; correction.

SUMMARY: The USDA Forest Service published a Notice of Intent (69 FR 59881-59883, October 6, 2004) to prepare an environmental impact statement for a proposed forest plan amendment for surface management of gas leasing and development on the Jicarilla Ranger District, Carson National Forest. In addition, the proposal includes a leasing analysis for approximately 3,800 unleased acres on the Jicarilla Ranger District.

A draft environmental impact statement has been completed and the Environmental Protection Agency (EPA) published a Notice of Availability (NOA) in the Federal Register on February 16, 2007 (72 FR 54900). The end of the comment period presented in the NOA was incorrect and subsequently rectified in an amended notice (72 FR 9521, March 2, 2007).

CORRECTED DATES: The Notice of Intent (NOI) stated the final environmental impact statement (FEIS) was scheduled for completion in early summer of 2005. This Notice corrects the estimated filing date of the FEIS from early summer 2005, to the fall 2007. When completed, EPA will publish a NOA of the FEIS in the Federal Register.

FOR FURTHER INFORMATION CONTACT: Audrey Kuykendall, Forest Environmental Coordinator, Carson National Forest, at (505) 758-6212.

Dated: May 15, 2007.
Martin D. Chavez, Jr.,
Forest Supervisor, Carson National Forest.

[FR Doc. E7-9271 Filed 5-14-07; 8:45 am]

BILLING CODE 3410-11-P